DEPARTMENT OF HEALTH AND HUMAN SERVICES

Office of the Secretary

Office of Public Health and Science and Centers for Disease Control and Prevention; Statement of Organization, Functions, and Delegations of Authority

Part A, Office of the Secretary (OS) of the Statement of Organization, Functions, and Delegations of Authority for the Department of Health and Human Services, Chapter AC, Office of Public Health and Science (OPHS), as last amended at 67 FR 71568-70, dated December 2, 2002; and Part H, Centers for Disease Control and Prevention, as last amended at 68 FR 47065-76, dated August 7, 2003, are being amended to reflect the transfer of the National Vaccine Program Office (NVPO) from the Centers for Disease Control and Prevention to the Office of Public Health and Science. The NVPO will be headed by a Director who will report to the Assistant Secretary for Health. The changes are as follows:

I. Under Part H, Centers for Disease Control and Prevention, Chapter CA, “Office of the Director”: delete the title and functional statement for the National Vaccine Program Office (HCA8) in its entirety.

II. Under Part A, Chapter AC, Office of Public Health and Science, make the following changes:

A. Under paragraph AC.10 Organization, insert the following line at the end of the listing:

M. National Vaccine Program Office (ACP).

B. Under paragraph AC.20, Functions, make the following changes:

1. Delete paragraph, “B. Immediate Office (ACA),” in its entirety, and replace with the following:

B. The Immediate Office (ACA): (1) Provides direction to program offices within OPHS; (2) provides advice to assure that the Department conducts broad based public health assessments designed to better define public health problems and to design solutions to those problems; assists other components within the Department in anticipating future public health issues and problems, and provides assistance to ensure that the Department designs and implements appropriate approaches, interventions, and evaluations, to maintain, sustain, and improve the health of the Nation; (3) at the direction of the Secretary, provides assistance in leading and managing the implementation and coordination of Secretarial decisions for Public Health Service Operating Divisions and, at the Secretary's direction, and for that purpose, draws on staff divisions and other organizational units for assistance in regard to legislation, budget, communications, and policy analysis; (4) provides a focus for leadership on matters including recommendations for policy on population-based public health and science and at the Secretary's direction leads and/or coordinates initiatives that cut across agencies and operating divisions; (5) provides advice to the Secretary and senior Department officials on budget and legislative issues of the Public Health Service Operating Divisions; (6) provides support for the Office of the Surgeon General in the exercise of statutory requirements and assigned activities; (7) works in conjunction with the Public Health Service Operating Divisions, and others, in promoting relationships among and between State and local health departments, academic institutions, professional and constituency organizations, and the Department; (8) works in conjunction with the Assistant Secretary for Planning and Evaluation on matters of science policy analysis and development; (9) provides administrative support to the Office of Global Health Affairs; (10) provides leadership for and participates in public health system improvement and development activities, particularly as they relate to population-based public health and the public health infrastructure; (11) communicates and interacts with national professional and constituency organizations on matters of public health and science; (12) provides departmental liaison for military and veterans issues in the form of advice and counsel to departmental officials; works with veterans associations and organizations; develops approaches within the Department to improve services to veterans and the military; and assists to bring focus on the needs of veterans and military families; (13) proposes findings of research misconduct and administrative actions in response to allegations of research misconduct involving research conducted or supported by the Public Health Service (PHS) OPDIVs, including reversal of an institution's no misconduct finding or opening of a new investigation; (14) responsible for management and oversight of human research subjects protections functions and related activities where research involves human subjects; (15) provides oversight and direction to the Regional Health Administrators (I-X) and their associated staff; (16) directs and manages the PHS Commissioned Corps, which includes a cadre of health professionals, and the associated personnel systems in support of the missions of the Department of Health and Human Services, U.S. Public Health Service, and agencies in which officers are assigned or detailed to, and provides oversight and direction for officer assignments and professional development; (17) provides policy and related oversight of the Commissioned Corps: and (18) manages the vaccine and immunization related activities for the Secretary.

2. At the end of Paragraph L, insert the following new component: “M. National Vaccine Program Office (ACP)”: The Office: (1) Advises the Assistant Secretary for Health (the Director of the National Vaccine Program) regarding issues and concerns identified with the implementation of the responsibilities of the National Vaccine Program; (2) develops and provides the Assistant Secretary for Health an annual plan for the implementation of the responsibilities of the NVPO; (3) develops data and conducts analyses of Federal spending on vaccines and vaccine-related activities; (4) provides executive-secretary, staff and administrative support to the National Vaccine Advisory Committee; and (5) coordinates preparation and submission of the annual National Vaccine Report for transmittal by the Assistant Secretary for Health.

III. Delegation for Authority: All delegations and redelegations of authority made by officials and employees of affected organizational components will continue in them or their successors pending further redelegation, provided they are consistent with this reorganization.

Effective Date: This reorganization is effective on the date of signature.

Dated: December 22, 2003.
Tommy G. Thompson,
Secretary.

[FR Doc. 04-120 Filed 1-5-04; 8:45 am]

BILLING CODE 4150-28-M